DEPARTMENT OF LABOR

Employment and Training Administration

[TA-W-52,407]

Jonathan Reed, Inc., Lumberton, NC; Notice of Termination of Investigation

Pursuant to Section 221 of the Trade Act of 1974, an investigation was initiated on July 28, 2003 in response to a petition filed by a company official on behalf of workers at Jonathan Reed, Inc., Lumberton, North Carolina.

The company official has requested that the investigation be terminated. Consequently, further investigation in this case would serve no purpose, and the investigation has been terminated.

Signed at Washington, DC, this 11th day of August, 2003.
Elliott S. Kushner,
Certifying Officer, Division of Trade Adjustment Assistance.

[FR Doc. 03-22272 Filed 8-29-03; 8:45 am]

BILLING CODE 4510-30-P